DEPARTMENT OF EDUCATION

Applications for New Awards; Elementary and Secondary School Counseling Programs

Catalog of Federal Domestic Assistance (CFDA) Number: 84.215E.

AGENCY: Office of Elementary and Secondary Education, Department of Education.

ACTION: Notice reopening the Elementary and Secondary School Counseling Programs application deadline for certain applicants.

SUMMARY: For certain applicants, the Department reopens the Elementary and Secondary School Counseling Programs grant competition to extend the deadline for submitting applications and the deadline for intergovernmental review. On April 27 and 28, 2014, certain prospective applicants were adversely affected by severe weather in Alabama, Arkansas, Florida, and Mississippi, which prevented them from submitting applications by the original deadline date of April 28, 2014.

DATES: Deadline for Transmittal of Applications: June 16, 2014.

Deadline for Intergovernmental Review: August 15, 2014.

FOR FURTHER INFORMATION CONTACT: Lisa Harrison, U.S. Department of Education, 400 Maryland Avenue SW., Room 3E255, Washington, DC 20202-6450. Telephone: (202) 453-6730 or by email: lisa.harrison@ed.gov or Loretta McDaniel, U.S. Department of Education, 400 Maryland Avenue SW., Room 3E242, Washington, DC 20202-6450. Telephone: (202) 453-6720 or by email: loretta.mcdaniel@ed.gov.

If you use a telecommunications device for the deaf (TDD) or a text telephone (TTY), call the Federal Relay Service (FRS), toll free, at 1-800-877-8339.

SUPPLEMENTARY INFORMATION: On March 12, 2014, we published in the Federal Register (79 FR 14012) a notice inviting applications for the Elementary and Secondary School Counseling Programs grant competition. That notice established an April 28, 2014, deadline for submitting an application. For prospective applicants who were adversely affected by severe weather in Alabama, Arkansas, Florida, and Mississippi on April 27, 2014, we are extending the deadline so that they have sufficient time to submit an application. The extension of the application deadline date in this notice applies to eligible applicants under the Elementary and Secondary School Counseling Programs grant competition that are located in a designated area covered by a Presidential Federal Disaster Declaration, and which had an incident period that included April 27-28, 2014, as determined by the Federal Emergency Management Agency (FEMA) (see www.fema.gov/news/disasters.fema). Information on the designated areas in each of four affected States can be found at the following links: Alabama (http://www.fema.gov/disaster/4176); Arkansas (http://www.fema.gov/disaster/4174); Florida (http://www.fema.gov/disaster/4177); and, Mississippi (http://www.fema.gov/disaster/4175). We will not accept applications from applicants who were not located in this federally declared disaster area during April 27-28, 2014.

Applicants under this competition are required to use Grants.gov to submit their application. The Department extends the deadline date for this competition to June 16, 2014 so that prospective applicants affected by severe weather will have additional time to submit an application. As a result of the change in the deadline date, we are also extending the deadline date for intergovernmental review only for these prospective applicants to August 15, 2014.

All information in the March 12, 2014, notice for this competition remains the same, except for the change in the deadline for submitting applications and the deadline for intergovernmental review.

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Program Authority: 20 U.S.C. 7245.

Dated: June 10, 2014.
Deborah S. Delisle,
Assistant Secretary for Elementary and Secondary Education.

[FR Doc. 2014-13895 Filed 6-12-14; 8:45 am]

BILLING CODE 4000-01-P